DEPARTMENT OF TRANSPORTATION

Surface Transportation Board

[Docket No. FD 35520; Docket No. FD 35518; Docket No. FD 35519; Docket No. FD 35521]

The New Brunswick Railway Company—Continuance in Control Exemption—Maine Northern Railway Company; Maine Northern Railway Company—Trackage Rights Exemption—Montreal, Maine & Atlantic Railway, Ltd.; Maine Northern Railway Company—Trackage Rights Exemption—Montreal, Maine & Atlantic Railway, Ltd.; Maine Northern Railway Company—Modified Rail Certificate—in Aroostook and Penobscot Counties, ME

AGENCY: Surface Transportation Board, DOT.

ACTION: Notice of Exemption.

SUMMARY: The Board grants an exemption under 49 U.S.C. 10502, from the prior approval requirements of 49 U.S.C. 11323-25, for Eastern Maine Railway, a Class III rail common carrier to continue in control of Maine Northern Railway Company.

DATES: EMR's exemption will be effective on October 26, 2011. Petitions for stay must be filed by October 6, 2011, and petitions for reconsideration must be filed by October 17, 2011.

ADDRESSES: An original and 10 copies of all pleadings, referring to the above dockets, must be filed with the Surface Transportation Board, 395 E. Street, SW., Washington, DC 20423-0001. In addition, one copy of all pleadings must be served on petitioners' representative: Karyn A. Booth, Thompson Hine LLP, Suite 800, 1920 N Street, NW., Washington, DC 20036.

FOR FURTHER INFORMATION CONTACT: Joseph H. Dettmar, (202) 245-0395. Assistance for the hearing impaired is available through the Federal Information Relay Service (FIRS) at 1-800-877-8339.

SUPPLEMENTARY INFORMATION: The Board granted the exemption by decision served on September 22, 2011.

Board decisions and notices are available on our Web site at: http://www.stb.dot.gov.

Decided: September 20, 2011.
By the Board, Chairman Elliott, Vice Chairman Begeman, and Commissioner Mulvey.
Jeffrey Herzig,
Clearance Clerk.

[FR Doc. 2011-24653 Filed 9-23-11; 8:45 am]

BILLING CODE 4915-01-P